DEPARTMENT OF VETERANS AFFAIRS

38 CFR Parts 3, 8, 14, 19, 20, and 21

VA Claims and Appeals Modernization

AGENCY: Department of Veterans Affairs.

ACTION: Notification of effective date.

SUMMARY: The Department of Veterans Affairs (VA) is providing notice that the effective date of the new VA appeals system, outlined in the Veterans Appeals Improvement and Modernization Act of 2017 (AMA), is February 19, 2019.

DATES: The effective date of the new VA appeals system is February 19, 2019.

FOR FURTHER INFORMATION CONTACT: Veterans Benefits Administration information, Jennifer Williams, Senior Management and Program Analyst, Appeals Management Office, Department of Veterans Affairs, 810 Vermont Avenue NW, Washington, DC 20420, (202) 530-9124 (this is not a toll-free number). Board of Veterans' Appeals information: Rachel Sauter, Counsel for Legislation, Regulations, and Policy, Board of Veterans' Appeals. Department of Veterans Affairs, 810 Vermont Avenue NW, Washington, DC 20420, (202) 632-5555 (this is not a toll-free number).

SUPPLEMENTARY INFORMATION: Pursuant to section 2(x)(6) of the Veterans Appeals Improvement and Modernization Act of 2017 (AMA), the Department of Veterans Affairs (VA) is providing notice that the effective date of the new VA appeals system is February 19, 2019. The Secretary of Veterans Affairs transmitted to Congress the certification required under AMA section 2(x)(1) on January 18, 2019. On that same date, the final rule setting forth the implementing regulations was published in the Federal Register. 84 FR 138 (Jan. 18, 2019). Because the thirtieth day from January 18, 2019, falls on a non-business day, the effective date was set on the next business day of February 19, 2019.

Dated: February 4, 2019.
Jeffrey M. Martin,
Assistant Director, Office of Regulation Policy & Management, Office of the Secretary, Department of Veterans Affairs.

[FR Doc. 2019-01432 Filed 2-6-19; 8:45 am]

BILLING CODE 8320-01-P